DEPARTMENT OF COMMERCE

National Oceanic and Atmospheric Administration

RIN 0648-XB156

Endangered and Threatened Species; Take of Anadromous Fish

AGENCY: National Marine Fisheries Service (NMFS), National Oceanic and Atmospheric Administration (NOAA), Commerce.

ACTION: Receipt of application for renewal of a scientific research and enhancement permit.

SUMMARY: Notice is hereby given that NMFS has received a scientific research and enhancement permit application request relating to salmonids listed under the Endangered Species Act (ESA). The proposed research program is intended to increase knowledge of the species and to help guide management and conservation efforts. The applications and related documents may be viewed online at: https://apps.nmfs.noaa.gov/preview/preview_open_for_comment.cfm. These documents are also available upon written request or by appointment by contacting NMFS by phone (707) 575-6097 or fax (707) 578-3435.

DATES: Written comments on the permit application must be received at the appropriate address or fax number (see ADDRESSES) no later than 5 p.m. Pacific standard time May 9, 2012.

ADDRESSES: Written comments on either application should be submitted to the Protected Resources Division, NMFS, 777 Sonoma Avenue, Room 325, Santa Rosa, CA 95404. Comments may also be submitted via fax to (707) 578-3435 or by email to FRNpermits.SR@noaa.gov.

FOR FURTHER INFORMATION CONTACT: Jeffrey Jahn, Santa Rosa, CA (ph.: 707-575-6097, email.: Jeffrey.Jahn@noaa.gov).

SUPPLEMENTARY INFORMATION:

Species Covered in This Notice

This notice is relevant to federally threatened Central California Coast steelhead (Oncorhynchus mykiss), endangered Central California Coast coho salmon (O. kisutch), and threatened California Coastal Chinook salmon (O. tshawytscha).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Application Received

Permit 15169

The National Park Service (NPS) is requesting a 5-year scientific research and enhancement permit to take juvenile, smolts and adult Central California Coast (CCC) steelhead, juvenile, smolts and adult CCC coho salmon, and juvenile, smolts and adult California Coastal (CC) Chinook salmon (ESA-listed salmonids) and adult carcasses of each species associated with eight research studies within NPS lands in Marin, San Mateo, and Contra Costa counties in California. This permit is a renewal of Permit 1046 Modification 2 previously issued to the NPS. In the studies described below, researchers do not expect to kill any listed fish but a small number may die as an unintended result of the research activities.

This project is part of an ongoing effort to monitor population status and trends of ESA-listed salmonids within park boundaries. The objectives are to: (1) Monitor salmonid smolt outmigration, (2) determine juvenile salmonid diet composition, (3) monitor spawning salmonids, (4) determine juvenile salmonid distribution and population abundance, (5) determine juvenile salmonid winter habitat utilization, (6) document adult salmonid spawner escapement; (7) conduct juvenile salmonid rescue and relocation, and (8) conduct biotelemetry. In these projects, ESA-listed salmonids will be observed (snorkel surveys), captured (dip-net, electrofishing, fyke-net trap, rotary screw trap, pipe-trap, weir, or seine), anesthetized, handled (identified, measured, weighed), sampled (fin clips, opercle, scales, gastric lavage, otoliths), marked (fin clips, fin dye), tagged (Passive Integrated Transponder (PIT), visible elastomer implant tags (VIE), acoustic), and released. All data and information will be shared with county, state, and federal entities for use in conservation and restoration planning efforts related to ESA-listed salmonids.

Study 1 is a salmonid smolt outmigration monitoring study in Lagunitas, Olema, Pine Gulch, and Redwood creeks in Marin County. Traps (screw traps, pipe-traps, and/or fyke-net traps) will be operated annually from February through June. A subset of CCC coho salmon, CC steelhead, and CC Chinook smolts, parr, and young-of-the-year (YOY) will be anesthetized, identified to species and life stage, measured, and weighed. Each day of sampling, a limited number of smolts will be marked (PIT tag, fin clip, fin dye, or VIE tags) and sampled (fin clips, scales) prior to release. A small portion of marked smolts will be released in an open trap box at a site above the site trap to determine trap efficiency. All other captured fish will be released downstream of the trap.

Study 2 is a juvenile salmonid diet composition study in the following watersheds within or proximate to NPS lands: Olema, Lagunitas, Pine Gulch, Redwood, and Easkoot creeks in Marin County. Diet composition data will be collected from smolts that are captured by pipe-trap or fyke-net trap (during study 1) or by seine or electrofishing (during study 4). Captured ESA-listed salmonids that are not subjected to the procedures associated with study 1 will be anesthetized, stomach sampled, and released.

Study 3 is an adult salmonid spawner monitoring study in the following watersheds on or proximate to NPS lands: Olema Creek, Lagunitas Creek, Pine Gulch, Redwood Creek, and Easkoot Creek in Marin County, West Union Creek, Martini Creek, San Vicente Creek, and Denniston Creek in San Mateo County, and Alhambra Creek and Franklin Creek in Contra Costa County. Streams will be visually surveyed annually from December through March. Researchers will observe the number, species, sex, size, condition, location, and behavior of spawning adult ESA-listed salmonids. Carcasses will be marked to avoid double counting and returned to the location where they were found. Redds will be located, marked, and mapped.

Study 4 is a summer/fall juvenile salmonid distribution, population abundance, and habitat monitoring study in the creeks listed in study 3. Sampling will occur from June through December. Snorkel surveys will be conducted whenever possible to estimate the number, species, and age class of ESA-listed salmonids present. In addition, juvenile CCC coho salmon and CCC steelhead will be captured by seine or electrofishing. After capture, fish will be anesthetized, measured and weighed, sampled, marked, and allowed to recover before being released back into the habitat from which they were taken. A subset of salmonids will be marked with PIT tags.

Study 5 is a juvenile salmonid winter habitat utilization study within or proximate to NPS lands in the Olema Creek and Redwood Creek watersheds in Marin County. Snorkel surveys will be conducted whenever possible to estimate the number, species, and age class of ESA-listed salmonids present. Annually, during October, juvenile salmonids will be captured (by seine or electrofishing), anesthetized, and handled. A subset of these captured fish will be tagged (PIT tags). During March, juvenile ESA-listed salmonids may be recaptured by seine or electrofishing. Fin dye may also be applied to the fins of a limited number of fish using a syringe or needleless jet injector.

Study 6 is an adult spawner escapement monitoring study. Floating resistance-board weir-traps will be operated annually from November through March at the lower reaches of Olema Creek, Pine Gulch, and Redwood Creek in Marin County, California. Upstream migrating salmonids will be captured in the weir-trap, handled, tagged to avoid recounting, and released upstream of the weir-trap. In addition, carcasses of ESA-listed salmonids may be handled, sampled, marked to avoid double counting, and returned to a location downstream of the weir-trap. Otoliths may be collected from select carcasses.

Study 7 is a juvenile salmonid rescue and relocation study in the same creeks as listed in study 3. Juvenile ESA-listed salmonids that are under imminent risk of stranding and mortality will be captured (by electrofishing or seining), handled, and transferred to buckets or insulated coolers filled with aerated stream water. Fish will be transported and released into either a flowing downstream section of the tributary from which they were taken or the mainstem at or below the confluence where they would have passed had they not become stranded. All fish will be kept within the same watershed as they were originally found.

Study 8 is a biotelemetry study. A subset of fish captured at the Olema and Lagunitas Creek smolt traps (during study 1) or during juvenile summer sampling (during study 4) will be implanted with acoustic tags to monitor their subsequent movements in Tomales Bay. This notice is provided pursuant to section 10(c) of the ESA. NMFS will evaluate the applications, associated documents, and comments submitted to determine whether the applications meet the requirements of section 10(a) of the ESA and Federal regulations. The final permit decisions will not be made until after the end of the 30-day comment period. NMFS will publish notice of its final actions in the Federal Register.

Dated: April 4, 2012.
Lisa Manning,
Acting Chief, Endangered Species Division, Office of Protected Resources, National Marine Fisheries Service.

[FR Doc. 2012-8483 Filed 4-6-12; 8:45 am]

BILLING CODE 3510-22-P